DEPARTMENT OF DEFENSE

Department of the Army; Corps of Engineers

Inland Waterways Users Board

AGENCY: Department of the Army, U.S. Army Corps of Engineers, DoD.

ACTION: Notice of open meeting.

SUMMARY: In accordance with 10(a)(2) of the Federal Advisory Committee Act (Pub. L. 92-463), announcement is made of the forthcoming meeting.

Name of Committee: Inland Waterways Users Board (Board).

Date: August 13, 2013.

Location: Meeting at The Brown Hotel, 335 West Broadway, Louisville, Kentucky 40202, at 502-583-1234 or 888-888-5252, or BrownHotel.com.

Time: Registration will begin at 8:30 a.m. and the meeting is scheduled to adjourn at approximately 1:00 p.m.

Agenda: The agenda will include the status of funding for inland navigation projects and studies, the status of the Inland Waterways Trust Fund, funding for Fiscal Year (FY) 2013 and 2014, update of proposed water resources-related authorization bills, status of the Olmsted Locks and Dam Project, an update of the Inland Marine Transportation System (IMTS) Levels of Service and status of the Inland Waterways System.

FOR FURTHER INFORMATION CONTACT: Mr. Mark R. Pointon, Institute for Water Resources, U.S. Army Corps of Engineers, CEIWR-GM, 7701 Telegraph Road, Casey Building, Alexandria, Virginia 22315-3868; Ph: 703-428-6438.

SUPPLEMENTARY INFORMATION: The meeting is open to the public. Any interested person may attend, appear before, or file statements with the committee at the time and in the manner permitted by the committee.

Brenda S. Bowen,
Army Federal Register Liaison Officer.

[FR Doc. 2013-17654 Filed 7-24-13; 8:45 am]

BILLING CODE 3720-58-P